DEPARTMENT OF HEALTH AND HUMAN SERVICES

Health Resources and Services Administration

Noncompetitive Supplements to Nursing Assistant and Home Health Aide Program Grantees

AGENCY: Health Resources and Services Administration (HRSA), HHS.

ACTION: Notice of Noncompetitive Program Expansion Supplements to Develop, Implement, and Evaluate Educational Curricula in Medication Administration and Management; Care Coordination and Follow Up; and Behavioral Health and Social Support for Home Health Aides.

SUMMARY: The Health Resources and Services Administration (HRSA) will offer noncompetitive program expansion supplements of $100,000 to 10 Nursing Assistant and Home Health Aide (NAHHA) Program grantees to develop, implement, and evaluate enhanced training programs to build competency in medication administration and management, care coordination and follow up, and behavioral health and social support for home health aides. Approximately $1,000,000 is available in fiscal year (FY) 2012. The NAHHA grantees have the capability, expertise, experience and infrastructure to expeditiously and effectively implement this enhanced training program. Their existing curricular efforts have built-in opportunities to offer continuing/expanded training, and these skills represent ones that have been identified by program participants and employers as highly desirable areas for training.

SUPPLEMENTARY INFORMATION: Grantees of record are:

American Red Cross, Greater Cleveland Chapter, 3747 Euclid Avenue, Cleveland, OH 44115-2501, T51HP20694

American Red Cross of Sonoma, Mendocino & Lake Counties, 5297 Aero Drive, Santa Rosa, CA 95403, T51HP20693

College of Menominee Nation, PO Box 1179, Keshena, WI 54135, T51HP20696

Erie 1 BOCES (Board of Cooperative Educational Services), 355 Harlem Road, West Seneca, NY 14224, T51HP20701

Hazard Community and Technical College, One Community Drive, Hazard, KY 41701, T51HP20697

Jewish Vocational Service and Employment Center, 216 W. Jackson Boulevard, Suite 700, Chicago, IL 60606-6921, T51HP20695

Penn Asian Senior Services, 420 York Road, Jenkintown, PA 19046, T51HP20699

Sears Methodist Retirement System, Inc., Texas Tech University Health Sciences Center (TTUHSC) School of Nursing, 302 Pine Street, Abilene, TX 79601, T51HP20702

Southwestern Oregon Community College, 1988 Newmark Avenue, Coos Bay, OR 97420, T51HP20698

St. Joseph Medical Center, P.O. Box 316, Reading, PA 19603-0316, T51HP20700

Intended Recipients of the Award: 10 Existing NAHHA awardees.

Intended Amount of Each Award: $100,000.

CFDA Number: 93.503

Project Period: September 30, 2012, through September 29, 2013.

Authority: Public Health Service Act, Title VIII, Section 831, 42 U.S.C. 296p, as amended by the Affordable Care Act (Pub. L. 111-148).

Justification: These program expansion supplements allow the Bureau of Health Professions to consolidate resources and provide enhanced curricular offerings and technical assistance, grant monitoring and oversight to the NAHHA initiative within currently existing grants. Moreover, providing additional funding to existing grantees offers the opportunity to expand upon the program evaluation imbedded in the existing NAHHA program, increasing the knowledge yield for HRSA and the grantees. This program supplement aligns with the current NAHHA budget period cycle, resulting in administrative savings over a competitive grant making process.

FOR FURTHER INFORMATION CONTACT: Kirk Koyama, Health Resources and Services Administration, Division of Nursing, 5600 Fishers Lane, Room 9-61, Rockville, Maryland 20857, or email kkoyama@hrsa.gov.

Dated: September 26, 2012.
Mary K. Wakefield,
Administrator.

[FR Doc. 2012-24250 Filed 10-1-12; 8:45 am]

BILLING CODE 4165-15-P